DEPARTMENT OF COMMERCE

National Oceanic and Atmospheric Administration

RIN 0648-XT08

Establishment of a Recreational Fisheries Working Group by the Marine Fisheries Advisory Committee

AGENCY: National Marine Fisheries Service (NMFS), National Oceanic and Atmospheric Administration (NOAA), Commerce.

ACTION: Notice; request for nominations.

SUMMARY: Nominations are being solicited for appointment to a new Recreational Fisheries Working Group of the Marine Fisheries Advisory Committee (MAFAC) beginning in January 2010. MAFAC is the only Federal advisory committee with the responsibility to advise the Secretary of Commerce (Secretary) on all matters concerning living marine resources that are the responsibility of the Department of Commerce. MAFAC is establishing a Recreational Fisheries Working Group (RFWG) to assist it in the development of recommendations to the Secretary on regulations, policies and programs critical to the mission and goals of the NMFS. The RFWG shall be composed of people with a specific interest and qualification related to NOAA's recreation-related activities. The members will be appointed by MAFAC in consultation with NOAA and will serve for an initial term of one year, with the potential for reappointment. Nominees should possess demonstrable expertise in the science, management or business of recreational fishing, a well-informed background in recreational fisheries issues, and an operational knowledge of federal agencies and interactions with the Fishery Management Councils and/or regional and state partners, and be able to fulfill the time commitments required for two annual meetings.

DATES: Applications must be postmarked on or before January 15, 2010.

ADDRESSES: Applications should be sent to Gordon C. Colvin, Interim Senior Policy Advisor for Recreational Fisheries, NMFS ST-12453, 1315 East-West Highway, Silver Spring, MD 20910.

FOR FURTHER INFORMATION CONTACT: Gordon C. Colvin, Interim Senior Policy Advisor for Recreational Fisheries; (301) 713-2367 x175; e-mail: Gordon.Colvin@noaa.gov

SUPPLEMENTARY INFORMATION: MAFAC is establishing the RFWG to advise MAFAC on issues of importance to the recreational fishing community, including, but not limited to: (1) the Ocean Policy Task Force report, (2) review and possible revision of the NOAA Recreational Fisheries Strategic Plan, (3) marine spatial planning, and (4) catch share policy, and such other recreational fisheries issues identified as appropriate by MAFAC. An initial task of the RFWG will be to assist the MAFAC Recreational Fisheries Subcommittee with the planning and organization of a NOAA 2010 recreational fishing summit.

The RGWG members cannot be employed by NOAA or a member of a Regional Fishery Management Council or have been registered as a lobbyist with the Secretary of the Senate and the Clerk of the House of Representatives within two years of the date of appointment. The RFWG is expected to have no more than 25 members to be selected from a balance of the diverse national and regional recreational fisheries sector and community perspectives. Membership is voluntary, and except for reimbursable travel and related expenses, service is without pay.

Each submission should provide the nominee's name and affiliation (if applicable) and contact information including name, address, phone number, fax number, and e-mail address (if available); and should describe their qualifying experience in the following areas:

1. Experience in marine recreational angling, and as a leader or representative of the angling community, fishing clubs or organizations, or in marine recreational fishing media;

2. Expertise in the science, management or business of recreational fishing;

3. Informed background in recreational fisheries issues; and

4. Operational knowledge of federal agencies and interactions with the Fishery Management Councils and/or regional and state partners.

Applications should be sent to (see ADDRESSES) and must be received by (see DATES). The full text of the MAFAC Charter and its current membership can be viewed at the NMFS' web page at www.nmfs.noaa.gov/mafac.htm.

Dated: December 10, 2009.
John Oliver,
Deputy Assistant Administrator for Operations, National Marine Fisheries Services.

[FR Doc. E9-29938 Filed 12-15-09; 8:45 am]

BILLING CODE 3510-22-S